DEPARTMENT OF COMMERCE

National Oceanic and Atmospheric Administration

Damage Assessment and Restoration Program; Indirect Cost Rates (2003 FY)

AGENCY: National Oceanic and Atmospheric Administration (NOAA), Commerce.

ACTION: Notice of Indirect Cost Rates for the Damage Assessment and Restoration Program for Fiscal Year 2003.

SUMMARY: The National Oceanic and Atmospheric Administration's (NOAA) Damage Assessment and Restoration Program (DARP) is announcing new indirect cost rates on the recovery of indirect costs for its component organizations involved in natural resource damage assessment and restoration activities for fiscal year (FY) 2003. The indirect cost rates for this fiscal year and dates of implementation are provided in this notice. More information on these rates and the DARP policy can be found at the DARP Web site at: www.darp.noaa.gov.

FOR FURTHER INFORMATION CONTACT: Brian Julius at 301-713-3038, ext. 199, by fax at 301-713-4387, or e-mail at Brian.Julius@noaa.gov.

SUPPLEMENTARY INFORMATION: The mission of the DARP is to restore natural resource injuries caused by releases of hazardous substances or oil under the Comprehensive Environmental Response, Compensation, and Liability Act (CERCLA) (42 U.S.C. 9601 et seq.), the Oil Pollution Act of 1990 (OPA) (33 U.S.C. 2701 et seq.), and support restoration of physical injuries to National Marine Sanctuary resources under the National Marine Sanctuaries Act (NMSA) (16 U.S.C. 1431 et seq.). The DARP consists of three component organizations: The Damage Assessment Center (DAC) within the National Ocean Service; the Restoration Center within the National Marine Fisheries Service; and the Office of the General Counsel for Natural Resources (GCNR). The DARP conducts Natural Resource Damage Assessments (NRDAs) as a basis for recovering damages from responsible parties, and uses the funds recovered to restore injured natural resources.

Consistent with Federal accounting requirements, the DARP is required to account for and report the full costs of its programs and activities. Further, the DARP is authorized by law to recover reasonable costs of damage assessment and restoration activities under CERCLA, OPA, and the NMSA. Within the constraints of these legal provisions and their regulatory applications, the DARP has the discretion to develop indirect cost rates for its component organizations and formulate policies on the recovery of indirect cost rates subject to its requirements.

The DARP's Indirect Cost Effort

In December 1998, the DARP hired the public accounting firm Rubino & McGeehin, Chartered (R&M), to: Evaluate the cost accounting system and allocation practices; recommend the appropriate indirect cost allocation methodology; and determine the indirect cost rates for the three organizations that comprise the DARP. A Federal Register notice on R&M's effort, their assessment of the DARP's cost accounting system and practice, and their determination regarding the most appropriate indirect cost methodology and rates for FYs 1993 through 1999 was published on December 7, 2000 (65 FR 76611). The notice and report by R&M can also be found on the DARP Web site at: http://www.darp.noaa.gov.

R&M continued its assessment of DARP's indirect cost rate system and structure for FYs 2000 and 2001. A second federal notice specifying the DARP indirect rates for FYs 2000 and 2001 was published on December 2, 2002 (67 FR 71537).

In October 2002, DARP hired the accounting firm of Cotton and Company LLP (Cotton) to review and certify DARP costs incurred on cases for purposes of cost recovery and to develop indirect rates for FY 2002 and subsequent years. As in the prior years, Cotton concluded that the cost accounting system and allocation practices of the DARP component organizations are consistent with Federal accounting requirements. Consistent with R&M's previous analyses, Cotton also determined that the most appropriate indirect allocation method continues to be the Direct Labor Cost Base for all three DARP component organizations. The Direct Labor Cost Base is computed by allocating total indirect cost over the sum of direct labor dollars plus the application of NOAA's leave surcharge and benefits rates to direct labor. Direct labor costs for contractors from the Oak Ridge Institute for Science and Education (ORISE) also were included in the direct labor base because Cotton determined that these costs have the same relationship to the indirect cost pool as NOAA direct labor costs. ORISE provides on-site support to the DARP in the areas of injury assessment, natural resource economics, restoration planning and implementation, and policy analysis. A third federal notice specifying the DARP indirect rates for FY 2002 was published on October 6, 2003 (68 FR 57672). Cotton's reports on the FY 2002 DARP indirect rates can also be found on the DARP Web site at: http://www.darp.noaa.gov.

Cotton reaffirmed that the Direct Labor Cost Base is the most appropriate indirect allocation method for the development of the FY 2003 indirect cost rates.

The DARP's Indirect Cost Rates and Policies

The DARP will apply the indirect cost rates for FY 2003 as recommended by Cotton for each of the DARP component organizations as provided in the following table:

DARP component organization | FY 2003 indirect rate (percent)
Damage Assessment Center (DAC) | 261.96
Restoration Center (RC) | 223.74
General Counsel for Natural Resources (GCNR) | 206.47

These rates are based on the Direct Labor Cost Base allocation methodology.

The FY 2003 rates will be applied to all damage assessment and restoration case costs incurred between October 1, 2003 and September 30, 2004. DARP will use the FY 2003 indirect cost rates for future fiscal years until subsequent year-specific rates can be developed.

For cases that have settled and for cost claims paid prior to the effective date of the fiscal year in question, the DARP will not re-open any resolved matters for the purpose of applying the revised rates in this policy for these fiscal years. For cases not settled and cost claims not paid prior to the effective date of the fiscal year in question, costs will be recalculated using the revised rates in this policy for these fiscal years. Where a responsible party has agreed to pay costs using previous year's indirect rates, but has not yet made the payment because the settlement documents are not finalized, the costs will not be recalculated.

The DARP indirect cost rate policies and procedures published in the Federal Register on December 7, 2000 (65 FR 76611), on December 2, 2002 (67 FR 71537), and October 6, 2003 (68 FR 57672) remain in effect except as updated by this notice.

Dated: May 16, 2005.
Mitchell Luxenberg,
Acting Director, Management and Budget, National Ocean Service, National Oceanic and Atmospheric Administration.

[FR Doc. 05-10162 Filed 5-19-05; 8:45 am]

BILLING CODE 3510-JE-P